DEPARTMENT OF THE INTERIOR

Bureau of Land Management

[MT-060-1020-PG]

Notice of Public Meeting, Central Montana Resource Advisory Council

AGENCY: Bureau of Land Management, Interior.

ACTION: Notice of public meeting.

SUMMARY: In accordance with the Federal Land Policy and Management Act (FLPMA) and the Federal Advisory Committee Act of 1972 (FACA), the U.S. Department of the Interior, Bureau of Land Management (BLM) Central Montana Resource Advisory Council (RAC) will meet as indicated below.

DATES: The meeting will be held October 2 & 3, 2002, at the Chinook Motor Inn, in Chinook, MT. The October 2 meeting will begin at 1 p.m. with a 30-minute public comment period and will adjourn at approximately 4:30 p.m. The October 3 meeting will begin at 8 a.m.; will provide a public comment period at 1 p.m.; and will adjourn at approximately 3:30 p.m.

SUPPLEMENTARY INFORMATION: The Central Montana Resource Advisory Council advises the Secretary of the Interior, through the Bureau of Land Management, on a variety of planning and management issues associated with public land management in north central Montana. During this meeting the topics to be discussed include:

—An update concerning the scoping open houses for the monument resource management plan;

—a fee system discussion concerning the Upper Missouri National Wild and Scenic River;

—information about easements;

—a summary concerning the North Blaine County Oil and Gas Update;

—information about sage grouse management;

—recommendations from the RAC's Missouri River Visitor Use subgroup;

—reports from field managers;

—reports concerning recent RAC field tours;

—a discussion of visitor use figures for the 2002 float season on the Upper Missouri; and

—a discussion of BLM's Lewis & Clark liaison efforts with Native American tribes.

All meetings are open to the public. The public may present written comments to the council. Each formal council meeting will also have time allocated for hearing public comments, Depending on the number of persons wishing to comment and time available, the time for individual oral comments may be limited. Individuals who plan to attend and need special assistance, such as sign language interpretation, tour transportation or other reasonable accommodations should contact the BLM as provided below.

FOR FURTHER INFORMATION CONTACT: Bruce W. Reed, Field Manager, Malta Field Office, 501 S. 2nd Street East, Malta, MT, 59538, (406) 654-1240.

David L. Mari,
Field Manager.

[FR Doc. 02-21219 Filed 8-21-02; 8:45 am]

BILLING CODE 4310-DN-P